DEPARTMENT OF JUSTICE

Antitrust Division

Notice Pursuant to the National Cooperative Research and Production Act of 1993—Consortium for Rare Earth Technologies

Notice is hereby given that, on May 1, 2023, pursuant to Section 6(a) of the National Cooperative Research and Production Act of 1993, 15 U.S.C. 4301 et seq. (“the Act”), Consortium for Rare Earth Technologies (“CREaTe”) has filed written notifications simultaneously with the Attorney General and the Federal Trade Commission disclosing changes in its membership. The notifications were filed for the purpose of extending the Act's provisions limiting the recovery of antitrust plaintiffs to actual damages under specified circumstances. Specifically, FIPR Institute, Florida Polytechnic University, Bartow, FL; Graphite One, Inc., Anchorage, AK; Great Plains Partners, Topeka, KS; Hamilton Mining & Marketing, Columbia, MD; Hudson Sterling LLC, Charleston, SC; Koch Modular Process Systems, Paramus, NJ; Lockheed Martin Missiles and Fire Control, Orlando, FL; Metatomic, Inc., Greenville, SC; Prairie State Generating Company, Marissa, IL; Rio Tinto Services, Inc., South Jordan, UT; YMC America, Devens, MA; and Serlocc, Chihuahua, MEXICO, have been added as parties to this venture.

No other changes have been made in either the membership or planned activity of the group research project. Membership in this group research project remains open, and CREaTe intends to file additional written notifications disclosing all changes in membership.

On April 22, 2022, CREaTe filed its original notification pursuant to Section 6(a) of the Act. The Department of Justice published a notice in the Federal Register pursuant to Section 6(b) of the Act on May 13, 2022 (87 FR 29384).

The last notification was filed with the Department on February 24, 2023. A notice was published in the Federal Register pursuant to Section 6(b) of the Act on April 17, 2023 (88 FR 23472).

Suzanne Morris,
Deputy Director Civil Enforcement Operations, Antitrust Division.

[FR Doc. 2023-12549 Filed 6-12-23; 8:45 am]

BILLING CODE P